DEPARTMENT OF JUSTICE

Antitrust Division

Notice Pursuant to the National Cooperative Research and Production Act of 1993—Training & Readiness Accelerator II

Notice is hereby given that, on October 20, 2023, pursuant to section 6(a) of the National Cooperative Research and Production Act of 1993, 15 U.S.C. 4301 et seq. (“the Act”), Training & Readiness Accelerator II (“TReX II”) has filed written notifications simultaneously with the Attorney General and the Federal Trade Commission disclosing changes in its membership. The notifications were filed for the purpose of extending the Act's provisions limiting the recovery of antitrust plaintiffs to actual damages under specified circumstances.

Specifically, ActioNet, Inc, Vienna, VA; Altio Labs LLC, Frisco, TX; Analex Corp. dba Arcfield, Hunstville, AL; Atlantic Diving Supply, Inc. dba ADS, Inc., Virginia Beach, VA; BAE Systems Land & Armaments, L.P., Sterling Heights, MI; Boecore LLC, Colorado Springs, CO; Cornerstone Research Group, Inc., Miamisburg, OH; DAGER Technology LLC, Fairfax, VA; Grove Resource Solutions LLC, Bethesda, MD; Hiller Measurements, Inc., Austin, TX; Industrial Smoke & Mirrors, Inc., Orlando, FL; Joy Lab Consulting LLC dba Mobilize, Arvada, CO; KCG Engineering Group, Inc., Virginia Beach, VA; MATBOCK LLC, Virginia Beach, VA; ObjectSecurity LLC, San Diego, CA; PURVIS Systems, Inc., Middletown, RI; Sensormetrix, Inc., San Diego, CA; Soar Technology, Inc., Ann Arbor, MI; Stratolaunch LLC, Mojave, CA; TMGcore, Inc., Plano, TX; Triton Systems, Inc., Chelmsford, MA; University of Central Florida Board of Trustees, Orlando, FL; Vadum, Inc., Raleigh, NC; Wittenstein Motion Control, Inc., Bartlett, IL; and 910 FACTOR, Inc., Gastonia, NC have been added as parties to this venture.

Also, ARCTOS Technology Solutions LLC, Dayton, OH; Black Source Software LLC, Dayton, OH; Cignal LLC, Reedsville, PA; CyOne, Inc., Aberdeen, MD; Discovery Machine, Inc., Williamsport, PA; DMAero LLC, Byron, GA; dSPACE, Inc., Wixom, MI; EZ-A Consulting LLC, Bel Air, MD; Hiller Measurements, Inc., Austin, TX; Infinity Systems Engineering LLC, Colorado Springs, CO; IntelliGenesis LLC, Columbia, MD; Joint Research & Development, Inc., Stafford, VA; Life Cycle Engineering, Inc., North Charleston, SC; MaXentric Technologies LLC, Fort Lee, NJ; NIRSense LLC dba Bionica Labs LLC, Richmond, VA; Palantir USG, Inc., Palo Alto, CA; Polaris Sensor Technologies, Inc., Huntsville, AL; RDA Technical Services, Fort Meyers, FL; Rocky Mountain Scientific Laboratory, Littleton, CO; SGSD Partners LLC dba Elevate Government Solutions, Washington, DC; Technica Corp., Sterling, VA; The EXPANSIA Group LLC, Nashua, NH; and Uptake Technologies, Inc., Chicago, IL, have withdrawn as parties to this venture.

No other changes have been made in either the membership or planned activity of the group research project. Membership in this group research project remains open, and TReX II intends to file additional written notifications disclosing all changes in membership.

On February 17, 2023, TReX II filed its original notification pursuant to section 6(a) of the Act. The Department of Justice published a notice in the Federal Register pursuant to section 6(b) of the Act on June 13, 2023 (88 FR 38536).

The last notification was filed with the Department on July 11, 2023. A notice was published in the Federal Register pursuant to section 6(b) of the Act on September 26, 2023 (88 FR 66055).

Suzanne Morris,
Deputy Director Civil Enforcement Operations, Antitrust Division.

[FR Doc. 2023-27607 Filed 12-14-23; 8:45 am]

BILLING CODE P